DEPARTMENT OF THE INTERIOR

Fish and Wildlife Service

[FWS-R8-R-2012-N251; FXRS12650800000-112-FF08R0000]

Don Edwards San Francisco Bay National Wildlife Refuge, Alameda, Santa Clara, and San Mateo Counties, CA

AGENCY: Fish and Wildlife Service, Interior.

ACTION: Notice of availability.

SUMMARY: We, the U.S. Fish and Wildlife Service (Service), announce the availability of our final Comprehensive Conservation Plan (CCP) and finding of no significant impact (FONSI) for the Don Edwards San Francisco Bay National Wildlife Refuge (Refuge). In the CCP, we describe how we will manage the Refuge for the next 15 years.

DATES: The CCP and FONSI are available now. The FONSI was signed on October 10, 2012. Implementation of the CCP may begin immediately.

ADDRESSES: You may view or obtain copies of the final CCP and FONSI by any of the following methods. You may request a hard copy or CD-ROM.

Agency Web site: Download a copy of the document(s) at http://www.fws.gov/cno/refuges/DonEdwards/DonEdwards.cfm.

Email: sfbaynwrc@fws.gov. Include “DESFB CCP” in the subject line of the message.

Fax: Attn: Winnie Chan, (510) 792-5828.

Mail: U.S. Fish and Wildlife Service, San Francisco Bay NWR Complex, 1 Marshlands Road, Fremont, CA 94555.

In-Person Viewing or Pickup: Copies of the Final CCP and FONSI may also be viewed at the San Francisco Bay National Wildlife Refuge Complex, 1 Marshlands Road, Fremont, CA 94555 (510) 792-0222.

FOR FURTHER INFORMATION CONTACT: Winnie Chan, Planning Team Leader, at (510) 792-0222 (See ADDRESSES), or Eric Mruz, Refuge Manager, at (510) 792-0222.

SUPPLEMENTARY INFORMATION:

Background

Don Edwards San Francisco Bay National Wildlife Refuge was established in 1972 pursuant to the Act Authorizing the Transfer of Certain Real Property for Wildlife, or other purposes (16 U.S.C. 667b), Endangered Species Act of 1973 (16 U.S.C. 1531 et seq.), and the Fish and Wildlife Act of 1956 (16 U.S.C. 742f(b)(1)). The roughly 30,000-acre Don Edwards San Francisco Bay National Wildlife Refuge, located in the Alameda, Santa Clara, and San Mateo Counties of California, consists of several noncontiguous parcels divided into four management units that surround the southern edge of the San Francisco Bay. The Refuge was established to preserve and enhance wildlife habitat, protect migratory birds, and protect threatened and endangered species. The Refuge also provides opportunities for wildlife-dependent recreation and environmental education.

We announce our decision and the availability of the FONSI for the final CCP for Don Edwards San Francisco Bay in accordance with National Environmental Policy Act (NEPA) (40 CFR 1506.6(b)) requirements. We completed a thorough analysis of impacts on the human environment, which we included in the environmental assessment (EA) that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We intend to review and update the CCP at least every 15 years in accordance with the Administration Act.

Our Draft CCP and EA were available for a 45-day public review and comment period, which we announced via several methods, including press releases, updates to constituents, and a Federal Register notice (77 FR 28895, May 16, 2012). The Draft CCP/EA identified and evaluated three alternatives for managing the Refuge for the next 15 years.

Under Alternative A (no action alternative), the current management actions, including habitat management, wildlife management, wildlife-oriented recreation opportunities, and environmental education, would be continued. Current staffing and funding would remain the same. Existing restoration and management plans (e.g., Bair Island Restoration and Management Plan and South Bay Salt Pond Restoration Project) would continue to be implemented. We would also actively work with partners and willing sellers to acquire the remaining lands within the approved acquisition boundary.

Alternative B (preferred alternative) includes those actions in Alternative A. In addition, we would moderately expand biological, habitat management, visitor service, and environmental education activities. Refuge staff would expand the volunteer program to recruit new volunteers and provide additional learning opportunities to existing volunteers. Additional staff and funding would be needed to implement this alternative.

Under Alternative C, in addition to tasks included in Alternative A and B, we would increase the frequency of baseline monitoring, investigate reintroduction of listed species (e.g., the salt marsh harvest mouse and the California clapper rail), survey for listed plant species, and encourage additional research to benefit listed species. Additional staff and funding would be needed to implement this alternative.

We received eighteen letters on the Draft CCP and EA during the review and comment period. Comments focused upon the meaning of an “approved acquisition boundary” and the scope of our authority within the approved boundary, applicability of state health and safety codes in relation to mosquito management on the Refuge, and wildlife-public use conflicts. We incorporated comments we received into the CCP when appropriate, and we responded to the comments in an appendix to the CCP. In the FONSI, we selected Alternative B for implementation. The FONSI documents our decision and is based on the information and analysis contained in the EA.

Under the selected alternative, the Service will expand both natural resource management and visitor services opportunities on the Refuge. Additional biological activities would include baseline surveys on native flora and fauna, as well as a revised predator management program to include avian predators. Habitat would be improved along the marsh-upland ecotone to benefit tidal marsh species as well as for the western snowy plover and California least tern. Other habitat management activities would include development of a comprehensive weed management plan, addressing climate change impacts on Refuge resources, and efforts to acquire additional lands to meet Refuge purposes. A mosquito management plan would be implemented to improve coordination with local mosquito abatement districts to manage the threat of mosquito-borne disease on the Refuge. The mosquito management plan would be developed in accordance with Service policies.

Visitor services will be expanded considerably through interpretation and environmental education opportunities. A wildlife photography permit system would be implemented to expand additional wildlife photography opportunities. Dog walking would be limited primarily to upland trails in order to further protect tidal marsh areas. A new LEED-certified visitor center complex would be constructed and additional interpretation activities would be provided. The environmental education program would be updated and expanded in several ways, such as through a LEED-certified remodel of the Environmental Education Center, Spanish translation of materials and curriculum, and adding programs at different sites. The volunteer program would be expanded through improving training for volunteers and developing permanent stewardship projects.

The selected alternative best meets the Refuges' purposes, vision, and goals; contributes to the Refuge System mission; addresses the significant issues and relevant mandates; and is consistent with principles of sound fish and wildlife management. Based on the associated environmental assessment, this alternative is not expected to result in significant environmental impacts and therefore does not require an environmental impact statement.

Paul B. McKim,
Acting Regional Director, Pacific Southwest Region, Sacramento, California.

[FR Doc. 2013-08338 Filed 4-9-13; 8:45 am]

BILLING CODE 4310-55-P